DEPARTMENT OF THE INTERIOR

National Park Service

Notice of Inventory Completion: Anthropological Studies Center, Archaeological Collections Facility, Sonoma State University, Rohnert Park, CA

AGENCY: National Park Service, Interior.

ACTION: Notice.

Notice is here given in accordance with the Native American Graves Protection and Repatriation Act (NAGPRA), 25 U.S.C. 3003, of the completion of an inventory of human remains and associated funerary objects in the possession and control of the Anthropological Studies Center, Archaeological Collections Facility, Sonoma State University, Rohnert Park, CA. The human remains and associated funerary objects were removed from Yolo County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the Anthropological Studies Center professional staff in consultation with representatives of the Cortina Indian Rancheria of Wintun Indians of California and the Yocha Dehe Wintun Nation, California (formerly the Rumsey Indian Rancheria of Wintun Indians of California).

In 1983, human remains representing a minimum of two individuals were removed from CA-YOL-139, in Yolo County, CA, during an archeological site boundary testing project conducted by California Archaeological Consultants (Tremaine, Origer and Fredrickson 1986). No known individuals were identified. The 555 associated funerary objects are 8 obsidian tools, 183 obsidian flakes, 30 chert flakes, 4 basalt flakes, 1 basalt tool, 317 non-human bone fragments, 1 abalone shell fragment, 2 ash/soil samples, 1 groundstone, 1 quartz chunk, 3 abalone pendants and 4 olivella beads.

One of the burials identified was associated with an ash feature that was dated by C¹⁴ to 170 yrs BP ± 60 (Bramlette and Fredrickson 1987:113). This collection, curated under the accession number 83-08, represents results of the excavation of CA-YOL-139, near the town of Knoxville, Yolo County, CA. The collection has been housed at the Anthropological Studies Center since it was accessioned in 1983.

In the fall of 1984 and summer of 1985, human remains representing a minium of 14 individuals were removed from CA-YOL-139, Yolo County, CA, during a joint effort between Sonoma State University and Santa Rosa Junior College under the direction of David A. Fredrickson and Thomas M. Origer. The site was excavated by three consecutive archeological field schools directed by Tom Origer and Project Coordinator Kim Tremaine. Four burials were encountered during this excavation, but since all were located within units outside the area of potential effect, the excavation was halted, and the units were refilled immediately without removing the human remains. However, disassociated human bones contained within the site's matrix, representing these 14 individuals, were identified during laboratory analysis and subsequent NAGPRA inventory by an osteological technician. No known individuals were identified. The 54 associated funerary objects are 20 obsidian tools, 1 chert tool, 3 groundstones, 2 steatite beads, 1 abalone pendant, 2 clamshell disk beads, 23 olivella beads and 2 steatite pipes.

This collection, curated under accession number 84-19, represents results of the excavation of CA-YOL-139, near the town of Knoxville, Yolo County, CA. The collection has been housed at the Anthropological Studies Center since it was accessioned in 1984.

Ethnographic and historic evidence indicates CA-YOL-139 is located within the traditional Wintun (Patwin) territory. Cultural affiliation has been determined based on archeological evidence, long-term occupation, continuity of cultural materials, ethnographic accounts and consultation with the representatives for the Cortina Indian Rancheria of Wintun Indians of California and the Yocha Dehe Wintun Nation, California.

Officials of the Anthropological Studies Center, Archaeological Collections Facility, Sonoma State University, have determined, pursuant to 25 U.S.C. 3001(9), the human remains described above represent the physical remains of 16 individuals of Native American ancestry. Officials of the Anthropological Studies Center, Archaeological Collections Facility, Sonoma State University, also have determined, pursuant to 25 U.S.C. 3001(3)(A), the 609 objects described above are reasonably believed to have been placed with or near individual human remains at the time of death or later as part of the death rite or ceremony. Lastly, officials of the Anthropological Studies Center, Archaeological Collections Facility, Sonoma State University, have determined, pursuant to 25 U.S.C. 3001(2), there is a relationship of shared group identity that can be reasonably traced between the Native American human remains and associated funerary objects and the Cortina Indian Rancheria of Wintun Indians of California and the Yocha Dehe Wintun Nation, California.

Representatives of any other Indian tribe that believes itself to be culturally affiliated with the human remains and associated funerary objects should contact Erica Gibson, NAGPRA Coordinator, Anthropological Studies Center, Archaeological Collections Facility, Sonoma State University, Rohnert Park, CA 24928, telephone (707) 664-2015, before December 6, 2010. Repatriation of the human remains and associated funerary objects to the Cortina Indian Rancheria of Wintun Indians of California and the Yocha Dehe Wintun Nation, California, may proceed after that date if no additional claimants come forward.

The Anthropological Studies Center, Archaeological Collections Facility, Sonoma State University, is responsible for notifying the Cortina Indian Rancheria of Wintun Indians of California and the Yocha Dehe Wintun Nation, California, that this notice has been published.

Dated: October 29, 2010.
Sherry Hutt,
Manager, National NAGPRA Program.

[FR Doc. 2010-27920 Filed 11-4-10; 8:45 am]

BILLING CODE 4312-50-P